DEPARTMENT OF HEALTH AND HUMAN SERVICES

Centers for Disease Control and Prevention

[Docket No. CDC-2019-0045]

Updating Federal Guidelines Used by Public Health Agencies To Assess and Respond to Potential Cancer Clusters in Communities

AGENCY: Centers for Disease Control and Prevention (CDC), Department of Health and Human Services (HHS).

ACTION: Request for information.

SUMMARY: The Centers for Disease Control and Prevention (CDC) in the Department of Health and Human Services (HHS) announces the opening of a docket to obtain public comment on updating federal guidelines used by public health agencies to assess and respond to potential cancer clusters in communities. CDC is working with the Agency for Toxic Substances and Disease Registry (ATSDR) to develop updated guidelines to ensure that state, tribal, local, and territorial (STLT) public health agencies and stakeholders have access to information about current scientific tools and approaches to assess and respond to potential cancer clusters. The purpose of this notice is to solicit feedback on best approaches for assessing and responding to potential cancer clusters in communities.

DATES: Written comments must be received on or before July 15, 2019.

ADDRESSES: You may submit comments, identified by Docket No. CDC-2019-0045 by any of the following methods:

• Federal eRulemaking Portal: http://www.regulations.gov. Follow the instructions for submitting comments.

• Mail: Division of Environmental Health Science and Practice, National Center for Environmental Health, Centers for Disease Control and Prevention, Attn: Docket No. CDC-2019-0045, 4770 Buford Highway NE, Mailstop F-60, Atlanta, Georgia 30341.

Instructions: All submissions received must include the agency name and Docket Number. All relevant comments received will be posted without change to http://regulations.gov, including any personal information provided. For access to the docket to read background documents or comments received, go to http://www.regulations.gov.

FOR FURTHER INFORMATION CONTACT: Alisha Etheredge, Centers for Disease Control and Prevention, National Center for Environmental Health, Division of Environmental Health Science and Practice, 4770 Buford Highway NE, Mailstop F-60, Atlanta, GA 30341; Telephone: 770-488-4024; Email: CCGuidelines@cdc.gov.

SUPPLEMENTARY INFORMATION:

Background

The current guidelines, Investigating Suspected Cancer Clusters and Responding to Community Concerns: Guidelines from CDC and the Council of State and Territorial Epidemiologists (2013 Guidelines), were published in the Morbidity and Mortality Weekly Report (MMWR) in September 2013 (see the Supporting & Related Material tab of this docket). The 2013 Guidelines are a tool to assist state, tribal, local, and territorial (STLT) public health agencies in applying a systematic approach when responding to inquiries about suspected cancer clusters in residential or community settings.

Since publication of the 2013 Guidelines, there have been technical and scientific advancements in areas such as data availability, analytic and geospatial methods, and cancer genomics. CDC is updating the 2013 Guidelines to ensure that STLT public health agencies and stakeholders have access to information about current scientific tools and approaches to assess and respond to potential cancer clusters in communities. The updated guidance will also provide members of the public with information about how STLT public health agencies may address individual and community concerns about potential cancer clusters. CDC will update the 2013 Guidelines based on input from subject matter experts, STLT public health agencies, the public, and other stakeholders.

Supporting Material

The 2013 Guidelines can be found in the Supporting Materials tab of this docket or accessed at https://www.cdc.gov/mmwr/preview/mmwrhtml/rr6208a1.htm.

Public Participation

Interested persons or organizations are invited to participate by submitting written views, information, recommendations, and data. In addition, CDC invites comments (and supporting data or other material, if applicable) specifically on these following questions:

1. Based on your personal or professional experience, what are the best approaches for public health agencies to:

a. Respond to community concerns about potential cancer clusters?

b. assess and evaluate potential cancer clusters?

c. communicate and engage with affected community members and other stakeholders throughout all stages of assessing and responding to a potential cancer cluster?

2. If you are familiar with the 2013 Guidelines, please answer the following questions:

a. What are the strengths of the 2013 Guidelines? What would you like to see retained in the updated guidelines? Please describe why.

b. What gaps and challenges exist in the 2013 Guidelines? For stated challenges, what are possible solutions to overcoming them?

3. What other factors should CDC consider when updating the 2013 Guidelines? Please describe why these factors are important to consider.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted during the process of updating federal guidelines used by public health agencies to assess and respond to potential cancer clusters in communities.

Dated: May 10, 2019.
Sandra Cashman,
Executive Secretary, Centers for Disease Control and Prevention.

[FR Doc. 2019-09998 Filed 5-14-19; 8:45 am]

BILLING CODE 4163-18-P